DEPARTMENT OF COMMERCE

Foreign-Trade Zones Board

[S-231-2020]

Foreign-Trade Zone 262—Southaven, Mississippi, Application for Subzone, Baxter Healthcare Corporation, Byhalia, Mississippi

An application has been submitted to the Foreign-Trade Zones (FTZ) Board by Northern Mississippi FTZ, Inc., grantee of FTZ 262, requesting subzone status for the facility of Baxter Healthcare Corporation, located in Byhalia, Mississippi. The application was submitted pursuant to the provisions of the Foreign-Trade Zones Act, as amended (19 U.S.C. 81a-81u), and the regulations of the FTZ Board (15 CFR part 400). It was formally docketed on December 29, 2020.

The proposed subzone (57.2 acres) is located at 629 Mount Carmel Road, Byhalia, Marshall County, Mississippi. No authorization for production activity has been requested at this time. The proposed subzone would be subject to the existing activation limit of FTZ 262.

In accordance with the FTZ Board's regulations, Camille Evans of the FTZ Staff is designated examiner to review the application and make recommendations to the Executive Secretary.

Public comment is invited from interested parties. Submissions shall be addressed to the FTZ Board's Executive Secretary and sent to: ftz@trade.gov. The closing period for their receipt is February 16, 2021. Rebuttal comments in response to material submitted during the foregoing period may be submitted during the subsequent 15-day period to March 1, 2021.

A copy of the application will be available for public inspection in the “Reading Room” section of the FTZ Board's website, which is accessible via www.trade.gov/ftz.

For further information, contact Camille Evans at Camille.Evans@trade.gov or (202) 482-2350.

Dated: December 29, 2020.
Elizabeth Whiteman,
Acting Executive Secretary.

[FR Doc. 2020-29177 Filed 1-4-21; 8:45 am]

BILLING CODE 3510-DS-P